ENVIRONMENTAL PROTECTION AGENCY

[FRL-7882-7]

Science Advisory Board Staff Office, Clean Air Scientific Advisory Committee (CASAC), Notification of Public Advisory Committee Meeting (Teleconference)

AGENCY: Environmental Protection Agency (EPA).

ACTION: Notice.

SUMMARY: The Environmental Protection Agency (EPA or Agency) Science Advisory Board (SAB) Staff Office announces a public teleconference of the Clean Air Scientific Advisory Committee to review and approve the advisory report of the CASAC Ambient Air Monitoring and Methods (AAMM) Subcommittee (Subcommittee) regarding EPA's implementation plan for the Agency's National Ambient Air Monitoring Strategy (NAAMS).

DATES: The teleconference meeting will be held on March 21, 2005, from 1 to 3 p.m. (Eastern Time).

FOR FURTHER INFORMATION CONTACT: Any member of the public who wishes to obtain the teleconference call-in numbers and access codes; would like to submit written or brief oral comments (five minutes or less); or wants further information concerning this teleconference meeting, must contact Mr. Fred Butterfield, Designated Federal Officer (DFO), EPA Science Advisory Board (1400F), U.S. Environmental Protection Agency, 1200 Pennsylvania Avenue, NW., Washington, DC 20460; via telephone/voice mail: (202) 343-9994; fax: (202) 233-0643; or e-mail at: butterfield.fred@epa.gov. General information concerning the CASAC or the EPA Science Advisory Board can be found on the EPA Web site at: http://www.epa.gov/sab.

SUPPLEMENTARY INFORMATION: CASAC and the AAMM Subcommittee: The CASAC, which comprises seven members appointed by the EPA Administrator, was established under section 109(d)(2) of the Clean Air Act (42 U.S.C. 7409) as an independent scientific advisory committee, in part to provide advice, information and recommendations on the scientific and technical aspects of issues related to air quality criteria and national ambient air quality standards (NAAQS) under sections 108 and 109 of the Act. The CASAC, which is administratively located under the SAB Staff Office, is a Federal advisory committee chartered under the Federal Advisory Committee Act (FACA), as amended, 5 U.S.C., App. The SAB Staff Office established the CASAC AAMM Subcommittee in early 2004 as a standing subcommittee to provide the EPA Administrator, through the CASAC, with advice and recommendations, as necessary, on topical areas related to ambient air monitoring, methods and networks. The Subcommittee complies with the provisions of FACA and all appropriate SAB Staff Office procedural policies.

Background: In response to a request from EPA's Office of Air and Radiation (OAR), a subcommittee of the CASAC provided advice and recommendations on the implementation aspects of EPA's Final Draft NAAMS at a face-to-face, public meeting held on December 15, 2004 at the SAB Conference Center in Washington, DC. Subsequent to that meeting, the Subcommittee drafted an advisory report for the CASAC's consideration. Detailed summary information on both the establishment of the CASAC AAMM Subcommittee and the history of EPA's Final Draft NAAMS is contained in a previous Federal Register notice (69 FR 68901, November 26, 2004).

Availability of Meeting Materials: The Agency's final draft National Ambient Air Monitoring Strategy document is posted on EPA's Ambient Monitoring Technology Information Center (AMTIC) Web site at URL: http://www.epa.gov/ttn/amtic/files/ambient/monitorstrat/allstrat.pdf. Any questions concerning the Agency's NAAMS should be directed to Mr. Tim Hanley, Office of Air Quality Planning and Standards (OAQPS), at phone: (919) 541-4417; or e-mail: hanley.tim@epa.gov. The CASAC AAMM Subcommittee's draft advisory report and the final agenda for this teleconference meeting will be made available on the SAB Web site at: http://www.epa.gov/sab/panels/casac_aamm_subcom.html and http://www.epa.gov/sab (under “Meeting Agendas”), respectively, in advance of the CASAC teleconference.

Providing Oral or Written Comments at SAB Meetings: It is the policy of the SAB Staff Office to accept written public comments of any length, and to accommodate oral public comments whenever possible. The SAB Staff Office expects that public statements presented at its meetings or teleconferences will not be repetitive of previously-submitted oral or written statements. Oral Comments: In general, each individual or group requesting an oral presentation at a meeting or teleconference will be limited to a total time of five minutes (unless otherwise indicated). Requests to provide oral comments must be in writing (preferably via e-mail) and received by Mr. Butterfield no later than noon Eastern Time five business days prior to the meeting or teleconference in order to reserve time on the meeting agenda. Written Comments: The SAB Staff Office accepts written comments until the date of the meeting or teleconference (unless otherwise stated). Copies of both oral and written public comments and other presentation materials should be provided to Mr. Butterfield (preferably via e-mail) at the address/contact information noted above, as follows: one hard copy with original signature, and one electronic copy via e-mail (acceptable file format: Adobe Acrobat PDF, WordPerfect, MS Word, MS PowerPoint, and Rich Text files (in IBM-PC/Windows 95/98 format)). All comments should be received in the SAB Staff Office no later than noon Eastern Time five business days prior to the meeting or teleconference so that these comments may be made available to the CASAC for their consideration.

Dated: February 25, 2005.
Vanessa T. Vu,
Director, EPA Science Advisory Board Staff Office.

[FR Doc. 05-4588 Filed 3-8-05; 8:45 am]

BILLING CODE 6560-50-P